Title 3—

The President

Memorandum of March 31, 2005

Assignment of Function to Submit a Report Relating to Millennium Challenge Corporation Activities

Memorandum for the Secretary of State

Consistent with section 301 of title 3, United States Code, the function of the President under section 613 of the Foreign Operations, Export Financing, and Related Programs Appropriations Act, 2004 (Division D of Public Law 108-199) is assigned to the Secretary of State.

The Secretary of State shall perform such function in a manner consistent with the President's constitutional authority to withhold information the disclosure of which could impair foreign relations, national security, the deliberative processes of the Executive, or the performance of the Executive's constitutional duties. Heads of departments and agencies shall, to the extent permitted by law, furnish to the Secretary information the Secretary requests to perform such function, in the format and on the schedule specified by the Secretary.

Any reference in this memorandum to the provision of any Act shall be deemed to include references to any hereafter-enacted provision of law that is the same or substantially the same as such provision.

You are authorized and directed to publish this memorandum in the Federal Register.

B

THE WHITE HOUSE,

Washington, March 31, 2005.

[FR Doc. 05-6735

Filed 4-1-05; 10:07 am]

Billing code 4710-10-P